DEPARTMENT OF HEALTH AND HUMAN SERVICES

National Institutes of Health

National Institute on Deafness and Other Communication Disorders; Notice of Meeting

Pursuant to section 1009 of the Federal Advisory Committee Act, as amended, notice is hereby given of a meeting of the Board of Scientific Counselors, NIDCD.

This is a virtual meeting and will be open to the public as indicated below. Individuals who plan to attend and need special assistance, such as sign language interpretation or other reasonable accommodations, should notify the Contact Person listed below in advance of the meeting.

The meeting will be closed to the public as indicated below in accordance with the provisions set forth in section 552b(c)(6), title 5 U.S.C., as amended for the review, discussion, and evaluation of individual intramural programs and projects conducted by the National Institute On Deafness And Other Communication Disorders, including consideration of personnel qualifications and performance, and the competence of individual investigators, the disclosure of which would constitute a clearly unwarranted invasion of personal privacy.

Name of Committee: Board of Scientific Counselors, NIDCD.

Date: March 17, 2025.

Open: 1:00 p.m. to 1:25 p.m.

Agenda: Reports from the institute staff.

Address: Porter Neuroscience Research Center, Building 35A, 35 Convent Drive, Bethesda, MD 20892,

Virtual Meeting.

Closed: 1:25 p.m. to 6:05 p.m.

Agenda: To review and evaluate personnel qualifications and performance, and competence of individual investigators.

Address: Porter Neuroscience Research Center, Building 35A, 35 Convent Drive, Bethesda, MD 20892, Virtual Meeting.

Contact Person: Lisa L Cunningham, Ph.D., Scientific Director, National Institute on Deafness and Other Communication Disorders, National Institutes of Health, 35A Convent Drive, Rockville, MD 20850, (301) 443-2766, lisa.cunningham@nih.gov

Information is also available on the Institute's/Center's home page: https://www.nidcd.nih.gov/about/advisory-committees, where an agenda and any additional information for the meeting will be posted when available.

(Catalogue of Federal Domestic Assistance Program Nos. 93.173, Biological Research Related to Deafness and Communicative Disorders, National Institutes of Health, HHS)

Dated: January 14, 2025.
Victoria E. Townsend,
Program Analyst, Office of Federal Advisory Committee Policy.

[FR Doc. 2025-01232 Filed 1-16-25; 8:45 am]

BILLING CODE 4140-01-P